DEPARTMENT OF EDUCATION

[Docket No.: ED-2016-ICCD-0048]

Agency Information Collection Activities; Submission to the Office of Management and Budget for Review and Approval; Comment Request; ED School Climate Surveys (EDSCLS) Benchmark Study 2017 Update

AGENCY: National Center for Education Statistics (NCES), Department of Education (ED).

ACTION: Notice.

SUMMARY: In accordance with the Paperwork Reduction Act of 1995 (44 U.S.C. chapter 3501 et seq.), ED is proposing a revision of an existing information collection.

DATES: Interested persons are invited to submit comments on or before May 23, 2016.

ADDRESSES: To access and review all the documents related to the information collection listed in this notice, please use http://www.regulations.gov by searching the Docket ID number ED-2016-ICCD-0048. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-103, Washington, DC 20202-4537.

FOR FURTHER INFORMATION CONTACT: For specific questions related to collection activities, please contact Kashka Kubzdela at kashka.kubzdela@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: ED School Climate Surveys (EDSCLS) Benchmark Study 2017 Update.

OMB Control Number: 1850-0923.

Type of Review: A revision of an existing information collection.

Respondents/Affected Public: Individuals or Households.

Total Estimated Number of Annual Responses: 328,877.

Total Estimated Number of Annual Burden Hours: 241,265.

Abstract: The ED School Climate Surveys (EDSCLS) are a suite of survey instruments being developed for schools, districts, and states by the U.S. Department of Education's (ED) National Center for Education Statistics (NCES). This national effort extends current activities that measure school climate, including the state-level efforts of the Safe and Supportive Schools (S3) grantees, which were awarded funds in 2010 by the ED's Office of Safe and Healthy Students (OSHS) to improve school climate. Through the EDSCLS, schools nationwide will have access to survey instruments and a survey platform that will allow for the collection and reporting of school climate data across stakeholders at the local level. The surveys can be used to produce school-, district-, and state-level scores on various indicators of school climate from the perspectives of students, teachers, noninstructional school staff and principals, and parents and guardians. The 2017 national EDSCLS benchmark study data collection from a nationally representative sample of schools across the United States to create a national comparison point for users of EDSCLS was last approved in April 2016 (OMB# 1850-0923 v.3). Data will be collected from a nationally representative sample of 500 schools serving students in grades 5-12 has to produce national school climate scores on the various topics covered by EDSCLS, which will be released in the updated EDSCLS platform and provide a basis for comparison between data collected by schools and school systems and the national school climate. This submission requests adjustments to the study plan to allow schools participating in the EDSCLS benchmark data collection the option to survey a sample rather than all students and staff so that participating schools have greater control over the amount of burden posed on EDSCLS respondents.

Dated: April 19, 2016.
Kate Mullan,
Acting Director, Information Collection Clearance Division, Office of the Chief Privacy Officer, Office of Management.

[FR Doc. 2016-09348 Filed 4-21-16; 8:45 am]

BILLING CODE 4000-01-P